COMMISSION ON CIVIL RIGHTS

Sunshine Act Meeting

AGENCY: U.S. Commission on Civil Rights.

Date and Time: Friday, July 22, 2005, 3 p.m.

Place: U.S. Commission on Civil Rights, via teleconference. Public Call-In Number: 1-800-597-0731. Access Code Number: 428299153. Federal Relay Service: 1-800-877-8339. 624 9th Street, NW., Washington, DC 20425.

Status:

Agenda

I. Approval of Agenda

II. Approval of Minutes of June 17, 2005, Meeting

III. Announcements

IV. Staff Director's Report

V. Program Planning

VI. Management and Operations

• Fiscal Year 2005 Financial Corrective Measures

• Fiscal Year 2007 Budget

VII. State Advisory Committees Issues

• State Advisory Committee Reports

• State Advisory Committee Rechartering

VIII. Discussion of Future Briefings

IX. Future Agenda Items

Contact Person for Further Information: Kenneth L. Marcus, Press and Communications, (202) 376-7700.

Seth Jaffe,
Acting Deputy General Counsel.

[FR Doc. 05-14014 Filed 7-12-05; 8:45 am]

BILLING CODE 6335-01-M